DEPARTMENT OF THE TREASURY

Office of Foreign Assets Control

Designation of One (1) Individual Pursuant to Executive Order 13553

AGENCY: Office of Foreign Assets Control, Department of the Treasury.

ACTION: Notice.

SUMMARY: The Treasury Department's Office of Foreign Assets Control (“OFAC”) is publishing the name of one (1) individual newly-designated as a person whose property and interests in property are blocked pursuant to Executive Order 13553 of September 28, 2010, “Blocking Property of Certain Persons With Respect to Serious Human Rights Abuses by the Government of Iran and Taking Certain Other Actions.”

DATES: The designation by the Director of OFAC of the individual identified in this notice, pursuant to Executive Order 13553 of September 28, 2010, is effective May 30, 2013.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On September 28, 2010, the President issued Executive Order 13553, “Blocking Property of Certain Persons With Respect to Serious Human Rights Abuses by the Government of Iran and Taking Certain Other Actions” (the “Order”) pursuant to, inter alia, the International Emergency Economic Powers Act (50 U.S.C. 1701-06) (“IEEPA”) and the Comprehensive Iran Sanctions, Accountability, and Divestment Act of 2010 (Pub. L. 111-195). In the Order, the President took additional steps with respect to the national emergency declared in Executive Order 12957 of March 15, 1995.

Section 1 of the Order blocks, with certain exceptions, all property and interests in property that are in the United States, that come within the United States, or that are or come within the possession or control of any United States person, of persons listed in the Annex to the Order and of persons determined by the Secretary of the Treasury, in consultation with or at the recommendation of the Secretary of State, to meet any of the criteria set forth in the Order.

The Annex to the Order listed eight individuals whose property and interests in property are blocked pursuant to the Order.

On May 30, 2013, the Director of OFAC, in consultation with or at the recommendation of the Secretary of State, designated, pursuant to one or more of the criteria set forth in subparagraphs (a)(ii)(A) through (a)(ii)(C) of Section 1 of the Order, one (1) individual whose property and interests in property are blocked, pursuant to the Order.

The listing for this individual is as follows:

• MIR-HEJAZI, Asghar (a.k.a. HEJAZI, Asghar; a.k.a. HEJAZI, Asghar Sadegh; a.k.a. MIR-HEJAZI RUHANI, Ali Asqar; a.k.a. MIRHEJAZI, Ali; a.k.a. MIR-HEJAZI, Ali Asqar); DOB 08 Sep 1946; POB Esfahan, Iran; citizen Iran; Security Deputy of Supreme Leader; Member of the Leader's Planning Chamber; Head of Security of Supreme Leader's Office; Deputy Chief of Staff of the Supreme Leader's Office (individual) [IRAN-HR]

Dated: May 30, 2013.
Adam J. Szubin,
Director, Office of Foreign Assets Control.

[FR Doc. 2013-15510 Filed 6-27-13; 8:45 am]

BILLING CODE 4810-AL-P